DEPARTMENT OF AGRICULTURE

Animal and Plant Health Inspection Service

7 CFR Part 354

[Docket No. APHIS-2022-0023]

RIN 0579-AE71

User Fees for Agricultural Quarantine and Inspection Services; Correction

AGENCY: Animal and Plant Health Inspection Service, USDA.5

ACTION: Final rule; correction.

SUMMARY: This document corrects a typographical error in the final rule entitled “User Fees for Agricultural Quarantine and Inspection Services,” which was published in the Federal Register on May 7, 2024, and has an effective date of October 1, 2024.

DATES: This document is effective on October 1, 2024.

FOR FURTHER INFORMATION CONTACT: Mr. George Balady, Senior Regulatory Policy Specialist, PPQ, APHIS, 4700 River Road, Unit 36, Riverdale, MD 20737; (301) 851-2338; aqi.user.fees@usda.gov.

SUPPLEMENTARY INFORMATION: In the Federal Register of May 7, 2024 (89 FR 38596-38644), we published a final rule entitled “User Fees for Agricultural Quarantine” that listed the designation for paragraph (h)(1) twice in 7 CFR 354.3. This document corrects that error.

Correction

In FR Doc. 2024-09348, appearing on pages 38596-38644 in the Federal Register of Tuesday, May 7, 2024, the following correction is made:

§ 354.3 [Corrected]

On page 38643, in the second column, in § 354.3, paragraph (h)(1), the first sentence after the paragraph heading “(1) Each importer of a consignment of articles that require treatment upon arrival from a place outside of the customs territory of the United States, either as a preassigned condition of entry or as a remedial measure ordered following the inspection of the consignment, must pay an AQI user fee.” is corrected to read “Each importer of a consignment of articles that require treatment upon arrival from a place outside of the customs territory of the United States, either as a preassigned condition of entry or as a remedial measure ordered following the inspection of the consignment, must pay an AQI user fee.”.

Done in Washington, DC, this 26th day of July 2024.
Jennifer Moffitt,
Under Secretary for Marketing and Regulatory Programs.

[FR Doc. 2024-18206 Filed 8-15-24; 8:45 am]

BILLING CODE 3410-34-P